DEPARTMENT OF COMMERCE

National Oceanic and Atmospheric Administration

[RTID 0648-XE805]

Taking and Importing Marine Mammals; Taking Marine Mammals Incidental to Geophysical Surveys Related to Oil and Gas Activities in the Gulf of America (Formerly Gulf of Mexico)

AGENCY: National Marine Fisheries Service (NMFS), National Oceanic and Atmospheric Administration (NOAA), Commerce.

ACTION: Notice of modification to expiration date of letter of authorization.

SUMMARY: In accordance with the Marine Mammal Protection Act (MMPA), as amended, its implementing regulations, and NMFS' MMPA regulations for taking marine mammals incidental to geophysical surveys related to oil and gas activities in the Gulf of America (GOA), originally published as Taking Marine Mammals Incidental to Geophysical Surveys Related to Oil and Gas Activities in the Gulf of Mexico, notification is hereby given that NMFS has modified the expiration date of a Letter of Authorization (LOA) issued to Shell Offshore Inc. (Shell) for the taking of marine mammals incidental to geophysical survey activity in the GOA.

DATES: This LOA is effective through August 31, 2025.

ADDRESSES: The LOA, LOA request, and supporting documentation are available online at: https://www.fisheries.noaa.gov/marine-mammal-protection/issued-letters-authorization-oil-and-gas-industry-geophysical-survey. In case of problems accessing these documents, please call the contact listed below (FOR FURTHER INFORMATION CONTACT).

FOR FURTHER INFORMATION CONTACT: Jenna Harlacher, Office of Protected Resources, NMFS, (301) 427-8401.

SUPPLEMENTARY INFORMATION:

Background

Sections 101(a)(5)(A) and (D) of the MMPA (16 U.S.C. 1361 et seq.) direct the Secretary of Commerce to allow, upon request, the incidental, but not intentional, taking of small numbers of marine mammals by U.S. citizens who engage in a specified activity (other than commercial fishing) within a specified geographical region if certain findings are made and either regulations are issued or, if the taking is limited to harassment, a notice of a proposed authorization is provided to the public for review.

An authorization for incidental takings shall be granted if NMFS finds that the taking will have a negligible impact on the species or stock(s), will not have an unmitigable adverse impact on the availability of the species or stock(s) for subsistence uses (where relevant), and if the permissible methods of taking and requirements pertaining to the mitigation, monitoring and reporting of such takings are set forth. NMFS has defined “negligible impact” in 50 CFR 216.103 as an impact resulting from the specified activity that cannot be reasonably expected to, and is not reasonably likely to, adversely affect the species or stock through effects on annual rates of recruitment or survival.

Except with respect to certain activities not pertinent here, the MMPA defines “harassment” as: any act of pursuit, torment, or annoyance which: (i) has the potential to injure a marine mammal or marine mammal stock in the wild (Level A harassment); or (ii) has the potential to disturb a marine mammal or marine mammal stock in the wild by causing disruption of behavioral patterns, including, but not limited to, migration, breathing, nursing, breeding, feeding, or sheltering (Level B harassment).

On January 19, 2021, we issued a final rule with regulations to govern the unintentional taking of marine mammals incidental to geophysical survey activities conducted by oil and gas industry operators, and those persons authorized to conduct activities on their behalf (collectively “industry operators”), in U.S. waters of the GOA ¹ over the course of 5 years (86 FR 5322, January 19, 2021). The rule was based on our findings that the total taking from the specified activities over the 5-year period will have a negligible impact on the affected species or stock(s) of marine mammals and will not have an unmitigable adverse impact on the availability of those species or stocks for subsistence uses. The rule became effective on April 19, 2021.

¹ Pursuant to Executive Order 14172, “Restoring Names That Honor American Greatness,” and Department of the Interior Secretarial Order 3423, “The Gulf of America,” the body of water formerly known as the Gulf of Mexico is now called the Gulf of America. Accordingly, this Federal Register notice hereafter refers to the Gulf of America.

The regulations at 50 CFR 217.180 et seq. allow for the issuance of LOAs to industry operators for the incidental take of marine mammals during geophysical survey activities and prescribe the permissible methods of taking and other means of effecting the least practicable adverse impact on marine mammal species or stocks and their habitat (often referred to as mitigation), as well as requirements pertaining to the monitoring and reporting of such taking. Under 50 CFR 217.186(e), issuance of an LOA shall be based on a determination that the level of taking will be consistent with the findings made for the total taking allowable under these regulations and a determination that the amount of take authorized under the LOA is of no more than small numbers.

NMFS subsequently discovered that the 2021 rule was based on erroneous take estimates. We conducted another rulemaking using correct take estimates and other newly available and pertinent information relevant to the analyses supporting some of the findings in the 2021 final rule and the taking allowable under the regulations. We issued a final rule in April 2024, effective May 24, 2024 (89 FR 31488, April 24, 2024).

The 2024 final rule made no changes to the specified activities or the specified geographical region in which those activities would be conducted, nor to the original 5-year period of effectiveness. In consideration of the new information, the 2024 rule presented new analyses supporting affirmance of the negligible impact determinations for all species, and affirmed that the existing regulations, which contain mitigation, monitoring, and reporting requirements, are consistent with the “least practicable adverse impact” (LPAI) standard of the MMPA.

NMFS issued a LOA to Shell on March 4, 2024, for the take of marine mammals incidental to a four-dimensional (4D) ocean bottom node survey over the Ursa Development, Mississippi Canyon Lease Block 809, and the surrounding lease blocks, effective July 1, 2024, through June 30, 2025. Please see the Federal Register notice of issuance (89 FR 17419, March 11, 2024) for additional detail regarding the LOA and the survey activity.

Shell has requested that the June 30, 2025, expiration date be extended to August 31, 2025, due to weather delays causing changes in survey timing. Since we issued the LOA to Shell, we have updated the final rule to include corrected take estimates and new information as discussed above; therefore, we have updated the authorized take numbers accordingly based on this new information. There are no changes to the planned survey as described in the previous notice of issuance (89 FR 17419, March 11, 2024), including the planned location and duration of the survey.

As discussed in the previous notice of issuance (89 FR 17419, March 11, 2024), no 4D ocean bottom node (OBN) surveys were included in the modeled survey types, thus the coil proxy was selected. Shell plans to cover approximately 15.7 square kilometers (km²) per day compared to the 144 km² in the coil proxy, and although Shell is not proposing to perform a survey using the coil geometry, the coil proxy is most representative of the effort planned by Shell in terms of predicted Level B harassment exposures. Additionally, Shell anticipates using a single dual source vessel, towing airgun array sources consisting of 32 elements, with a total volume of 5,110 cubic inches (in³; 0.084 cubic meters (m³)). Therefore, the 5,110 in³ proxy was selected.

The survey plan includes approximately 80 days, including 63 days of sound source operation in Zone 5. The monthly distribution of survey days is not known in advance, though we assume that the planned 63 days of source operation will occur contiguously. Take estimates for each species are based on the time period that produces the greatest value.

For the Rice's whale, recent survey data, sightings, and acoustic data support Rice's whale occurrence in waters throughout the GOA between approximately 100 m and 400 m depth along the continental shelf break, and associated habitat-based density modeling has identified similar habitat (i.e., approximately 100 to 400 m water depths along the continental shelf break) as being Rice's whale habitat (Garrison et al., 2023; Soldevilla et al., 2022, 2024). NMFS' 2024 final rule provided detailed discussion regarding Rice's whale habitat (see, e.g., 89 FR 31508, 31519).

Shell's planned activities will overlap this depth range, with approximately 0.8 percent of the area expected to be ensonified by the survey above root-mean-squared pressure received levels (RMS SPL) of 160 decibels (dB) (referenced to 1 micropascal (re 1 μPa)) overlapping the 100-400 m isobaths. Therefore, there is some reasonable potential for take of Rice's whale to occur in association with this survey. The generic acoustic exposure modeling results in one take of Rice's whales and we have rounded that up to a group size, authorizing two Rice's whale takes.

Based on the results of our analysis, NMFS has determined that the level of taking expected for this survey and authorized through the LOA is consistent with the findings made for the total taking allowable under the regulations. See table 1 in this notice and table 6 of the rule (89 FR 31488, April 24, 2024).

Small Numbers Determination

Under the rule, NMFS may not authorize incidental take of marine mammals in an LOA if it will exceed “small numbers.” In short, when an acceptable estimate of the individual marine mammals taken is available, if the estimated number of individual animals taken is up to, but not greater than, one-third of the best available abundance estimate, NMFS will determine that the numbers of marine mammals taken of a species or stock are small (see 89 FR 31535, May 24, 2024). For more information please see NMFS' discussion of small numbers in the 2021 final rule (86 FR 5438, January 19, 2021).

The take numbers for authorization are determined as described above. Subsequently, the total incidents of harassment for each species are multiplied by scalar ratios (except in the cases where the take estimate has been rounded up to reflect a group size) to produce a derived product that better reflects the number of individuals likely to be taken within a survey (as compared to the total number of instances of take), accounting for the likelihood that some individual marine mammals may be taken on more than 1 day (see 86 FR 5404, January 19, 2021). The output of this scaling, where appropriate, is incorporated into adjusted total take estimates that are the basis for NMFS' small numbers determinations, as depicted in table 1.

This product is used by NMFS in making the necessary small numbers determinations through comparison with the best available abundance estimates (see discussion at 86 FR 5391, January 19, 2021). For this comparison, NMFS' approach is to use the maximum theoretical population, determined through review of current stock assessment reports (SAR; https://www.fisheries.noaa.gov/national/marine-mammal-protection/marine-mammal-stock-assessments) and model-predicted abundance information (https://seamap.env.duke.edu/models/Duke/GOM/). Information supporting the small numbers determinations is provided in table 1.

Table 1—Take Analysis
Species | Authorized take | Scaled take 1 | Abundance 2 | Percent abundance
Rice's whale | 2 | NA | 51 | 3.9
Sperm whale | 569 | 241 | 2,451 | 9.8
Kogia spp. | 153 ³ | 46.8 | 1,385 | 3.9
Beaked whales | 1,176 | 119 | 1,038 | 11.4
Rough-toothed dolphin | 1,467 | 421 | 4,853 | 8.7
Bottlenose dolphin | 1,753 | 503 | 151,886 | 0.3
Clymene dolphin | 555 | 159 | 6,136 | 2.6
Atlantic spotted dolphin | 523 | 150 | 21,506 | 0.7
Pantropical spotted dolphin | 12,398 | 3,558 | 50,209 | 7.1
Spinner dolphin | 269 | 77 | 2,199 | 3.5
Striped dolphin | 1,567 | 450 | 16,102 | 2.8
Fraser's dolphin | 538 | 154 | 1,665 | 9.3
Risso's dolphin | 438 | 129 | 1,974 | 6.5
Blackfish ⁴ | 1,878 | 554 | 9,535 | 5.8
Short-finned pilot whale | 709 | 209 | 3,277 | 6.4
¹ Scalar ratios were applied to “Authorized Take” values as described at 86 FR 5322 and 86 FR 5404 (January 19, 2021) to derive scaled take numbers shown here.
² Best abundance estimate. For most taxa, the best abundance estimate for purposes of comparison with take estimates is considered here to be the model-predicted abundance (Garrison et al., 2023). For Rice's whale, Atlantic spotted dolphin, and Risso's dolphin, the SAR abundance estimate is used.
³ Includes 7 takes by Level A harassment and 146 takes by Level B harassment. Scalar ratio is applied to takes by Level B harassment only; small numbers determination made on basis of scaled Level B harassment take plus authorized Level A harassment take.
⁴ The “blackfish” guild includes melon-headed whales, false killer whales, pygmy killer whales, and killer whales.

Based on the analysis contained herein of Shell's proposed survey activity described in its LOA application and the anticipated take of marine mammals, NMFS finds that small numbers of marine mammals will be taken relative to the affected species or stock sizes (i.e., less than one-third of the best available abundance estimate) and therefore the taking is of no more than small numbers.

Authorization

NMFS has determined that the level of taking for this LOA request is consistent with the findings made for the total taking allowable under the incidental take regulations and that the amount of take authorized under the LOA is of no more than small numbers. Accordingly, we have issued a modification to the LOA to Shell authorizing the take of marine mammals incidental to its geophysical survey activity, as described above.

Dated: May 15, 2025.
Kimberly Damon-Randall,
Director, Office of Protected Resources, National Marine Fisheries Service.

[FR Doc. 2025-09021 Filed 5-19-25; 8:45 am]

BILLING CODE 3510-22-P